ENVIRONMENTAL PROTECTION AGENCY

[FRL-9488-3]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or email at westlund.rick@epa.gov and please refer to the appropriate EPA Information Collection Request (ICR) Number.

SUPPLEMENTARY INFORMATION:

OMB Responses to Agency Clearance Requests

OMB Approvals

EPA ICR Number 1363.21; Toxic Chemical Release Reporting; 40 CFR part 372; was approved on 10/14/2011; OMB Number 2025-0009; expires on 10/31/2014; Approved without change.

EPA ICR Number 0318.12; Clean Watersheds Needs Survey (Renewal); was approved on 10/20/2011; OMB Number 2040-0050; expires on 10/31/2014; Approved with change.

EPA ICR Number 0820.11; Hazardous Waste Generator Standards (Renewal); 40 CFR 262.34, 262.40(c), 262.43, 262.44(c), 262.53-262.57, 262.60, 265.190-265.193, and 265.196; was approved on 10/25/2011; OMB Number 2050-0035; expires on 10/31/2014; Approved without change.

EPA ICR Number 1284.09; NSPS for Polymeric Coating of Supporting Substrates Facilities; 40 CFR part 60, subparts A and VVV; was approved on 10/25/2011; OMB Number 2060-0181; expires on 10/31/2014; Approved without change.

EPA ICR Number 1630.10; Oil Pollution Act Facility Response Plans (Renewal); 40 CFR 112.20 and 112.21; was approved on 10/25/2011; OMB Number 2050-0135; expires on 10/31/2014; Approved without change.

EPA ICR Number 0559.11; Application for Reference and Equivalent Method Determination (Renewal); 40 CFR 53.4, 53.9 (f),(h),(i), 53.14, 53.15, and 53.16(a)-(d),(f); was approved on 10/31/2011; OMB Number 2080-0005; expires on 10/31/2014; Approved without change.

Comment Filed

EPA ICR Number 2436.01; Revisions to the Emergency and Hazardous Chemical Inventory Forms (Tier I and Tier II), Section 312 of the Emergency Planning and Community Right-to-Know Act (EPCRA) (Proposed Rule); OMB filed comment on 10/25/2011.

EPA ICR Number 2421.01; Carbon Dioxide (CO2) Streams in Geologic Sequestration Activities (Proposed Rule); in 40 CFR 261.4(h); OMB filed comment on 10/25/2011.

EPA ICR Number 2439.01; NESHAP for Natural Gas Transmission and Storage; in 40 CFR part 63, subparts A and HHH; OMB filed comment on 10/25/2011.

EPA ICR Number 2440.01; NESHAP for Oil and Natural Gas Production; in 40 CFR part 63, subparts A and HH; OMB filed comment on 10/25/2011.

Dated: November 1, 2011.
John Moses,
Director, Collections Strategies Division.

[FR Doc. 2011-28764 Filed 11-4-11; 8:45 am]

BILLING CODE 6560-50-P